FARM CREDIT ADMINISTRATION

12 CFR Part 615

RIN 3052-AC50

Funding and Fiscal Affairs, Loan Policies and Operations, and Funding Operations; Investment Management; Effective Date

AGENCY: Farm Credit Administration.

ACTION: Notice of effective date.

SUMMARY: The Farm Credit Administration (FCA), through the FCA Board, issued a final rule amending its regulations governing investments held by institutions of the Farm Credit System, as well as related regulations. In accordance with the law, the effective date of the final rule is 30 days from the date of publication in the Federal Register during which either or both Houses of Congress are in session.

DATES: Under the authority of 12 U.S.C. 2252, the regulation amending 12 CFR part 615 published on November 5, 2012 (77 FR 66362) is effective December 31, 2012.

FOR FURTHER INFORMATION CONTACT: Timothy T. Nerdahl, Senior Financial Analyst, Office of Regulatory Policy, Farm Credit Administration, McLean, Virginia 22102-5090, (952) 854-7151 extension 5035, TTY (952) 854-2239, or Jennifer A. Cohn, Senior Counsel, Office of General Counsel, Farm Credit Administration, McLean, Virginia 22102-5090, (703) 883-4020, TTY (703) 883-4020.

SUPPLEMENTARY INFORMATION: The Farm Credit Administration (FCA), through the FCA Board, issued a final rule amending its regulations governing investments held by institutions of the Farm Credit System, as well as related regulations. In accordance with 12 U.S.C. 2252, the effective date of the final rule is 30 days from the date of publication in the Federal Register during which either or both Houses of Congress are in session. Based on the records of the sessions of Congress, the effective date of the regulations is December 31, 2012. (12 U.S.C. 2252(a)(9) and (10))

Dated: January 8, 2013.
Dale L. Aultman,
Secretary, Farm Credit Administration Board.

[FR Doc. 2013-00551 Filed 1-11-13; 8:45 am]

BILLING CODE 6705-01-P